DEPARTMENT OF ENERGY

Federal Energy Regulatory Commission

[Project No. 14890-005]

Southeast Oklahoma Power Corporation; Notice of Intent To File License Application, Filing of Pre-Application Document (PAD), Commencement of ILP Pre-Filing Process, and Scoping; Request for Comments on the PAD and Scoping Document, and Identification of Issues and Associated Study Requests

a. Type of Filing: Notice of Intent to File License Application for an Original License and Commencing Pre-filing Process.

b. Project No.: 14890-005.

c. Dated Filed: May 7, 2024.

d. Submitted by: Southeast Oklahoma Power Corporation (SEOPC).

e. Name of Project: Pushmataha County Pumped Storage Hydroelectric Project (Pushmataha Project).

f. Location: The proposed project would be located along the Kiamichi River in Pushmataha County, Oklahoma, approximately 5 miles south of Talihina, Oklahoma, and would include a transmission line extending through Pushmataha and McCurtain Counties, Oklahoma, and Red River and Lamar Counties, Texas, to its proposed point of interconnection in Paris, Texas. The project would entail the construction of a new 886-foot-long upper dam, with a 599.55-acre upper reservoir; a 13,615-foot-long lower dam, with an 887.37-acre lower reservoir; a 40-acre re-regulating reservoir; a concrete pump station/powerhouse, with a total installed capacity of 1,200 MW; and a 99.96-mile-long, 345 kV transmission line. Initial fill water and make-up water would be provided via a concrete intake channel on the Kiamichi River.

g. Filed Pursuant to: 18 CFR part 5 of the Commission's Regulations.

h. Applicant Contact: Johann Tse, Southeast Oklahoma Power Corporation, 6208 Sandpebble Court, Dallas, Texas 75254; (469) 951-3088; johann.tse@aquariancapital.com.

i. FERC Contact: Kristine Sillett at (202) 502-6575, or email at kristine.sillett@ferc.gov.

j. Cooperating Agencies: Federal, State, Tribal, and local agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service under section 7 of the Endangered Species Act and the joint agency regulations, thereunder, at 50 CFR, Part 402; and (b) the State Historic Preservation Officer, as required by section 106, National Historic Preservation Act, and the implementing regulations of the Advisory Council on Historic Preservation at 36 CFR 800.2.

l. With this notice, we are designating Southeast Oklahoma Power Corporation as the Commission's non-federal representative for carrying out informal consultation, pursuant to section 7 of the Endangered Species Act and section 106 of the National Historic Preservation Act.

m. Southeast Oklahoma Power Corporation filed with the Commission a Pre-Application Document (PAD, including a proposed process plan and schedule), pursuant to 18 CFR 5.6 of the Commission's regulations.

n. A copy of the PAD may be viewed on the Commission's website (http://www.ferc.gov), using the “eLibrary” link. Enter the docket number, excluding the last three digits in the docket number field, to access the document. For assistance, contact FERC at FERCOnlineSupport@ferc.gov, or call toll-free, (866) 208-3676, or for TYY, (202) 502-8659. The PAD may also be viewed at www.greenvaultenergy.net, and copies are available for review at the Antlers and Idabel public libraries in Oklahoma, and the Red River County and Paris public libraries in Texas.

You may register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

o. With this notice, we are soliciting comments on the PAD and Commission staff's Scoping Document 1 (SD1), as well as study requests. All comments on the PAD and SD1, as well as study requests should be sent to the address above in paragraph h. In addition, all comments on the PAD and SD1, study requests, requests for cooperating agency status, and all communications to and from Commission staff related to the merits of the potential application must be filed with the Commission.

The Commission strongly encourages electronic filing. Please file all documents using the Commission's eFiling system at https://ferconline.ferc.gov/FERCOnline.aspx. Commenters can submit brief comments up to 6,000 characters, without prior registration, using the eComment system at https://ferconline.ferc.gov/QuickComment.aspx. For assistance, please contact FERC Online Support. In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Pushmataha Project (P-14890-005).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by September 6, 2024.

p. Scoping Process: In accordance with the National Environmental Policy Act (NEPA), Commission staff will prepare either an environmental assessment (EA) or an environmental impact statement (EIS) (collectively referred to as the “NEPA document”). The NEPA document will consider both site-specific and cumulative environmental effects, and reasonable alternatives to the proposed action. The Commission's scoping process will help determine the required level of analysis and satisfy the NEPA scoping requirements, irrespective of whether the Commission prepares an EA or EIS.

Scoping Meetings

Commission staff will hold five public scoping meetings to receive input on the scope of the environmental issues that should be analyzed in the NEPA document (a daytime and evening meeting in Paris, Texas, a daytime and evening meeting in Talihina, Oklahoma, and one virtual meeting). Daytime scoping meetings will focus on resource agency, Native American Tribes, and non-governmental organization (NGO) concerns, while the evening scoping meetings will focus on receiving input from the public. We invite all interested agencies, Native American Tribes, NGOs, and individuals to attend one of these meetings to assist us in identifying the scope of environmental issues that should be analyzed in the NEPA document. Additionally, each meeting will include a virtual review of the proposed project site. The dates, times, and locations of these meetings are as follows:

Paris, Texas

Daytime Scoping Meeting *

Date: Wednesday, August 7, 2024.

Time: 9:30 a.m.-11:30 a.m. CDT.

Place: Love Civic Center (North Hall).

Address: 2025 S Collegiate Dr., Paris, Texas 75460.

Evening Scoping Meeting *

Date: Wednesday, August 7, 2024.

Time: 6:30 p.m.-8:30 p.m. CDT.

Place: Love Civic Center (North Hall).

Address: 2025 S Collegiate Dr., Paris, Texas 75460.

Talihina, Oklahoma

Evening Scoping Meeting *

Date: Thursday, August 8, 2024.

Time: 6:30 p.m.-8:30 p.m. CDT.

Place: Talihina Junior High Auditorium.

Address: 600 1st St., Talihina, Oklahoma 74571.

Daytime Scoping Meeting *

Date: Friday, August 9, 2024.

Time: 9:30 a.m.-11:30 a.m. CDT.

Place: Talihina Junior High Auditorium.

Address: 600 1st St., Talihina, Oklahoma 74571.

Virtual Scoping Meeting

Date: Thursday, August 15, 2024.

Time: 9:00 a.m.-12:00 p.m. CDT (10:00 a.m.-1:00 p.m. EDT).

Information: A scoping meeting will be held virtually. (You will be able to connect to the meeting using a computer or a telephone.) If you plan to attend the virtual meeting, please RSVP via email to PushmatahaMeetingRSVP@ferc.gov on or before August 11, 2024 and, in the days before the meeting, you will receive specific instructions on how to attend. In your email, please indicate if you would like to speak. Please do not send comments to this email address.

* For the in-person meetings there is no need to RSVP. People will be admitted until the capacity of the meeting space is reached.

Copies of SD1, outlining the subject areas to be addressed in the NEPA document, were distributed to the individuals and entities on the Commission's mailing list, as well as Southeast Oklahoma Power Corporation's distribution list and those who have included their address in comments filed on the proposed project through July 1, 2024. Copies of SD1 will be available at the scoping meetings, or may be viewed on the web at http://www.ferc.gov, using the “eLibrary” link. Follow the directions for accessing information in paragraph n. Based on all oral and written comments, a Scoping Document 2 (SD2) may be issued. SD2 may include a revised process plan and schedule, as well as a list of issues, based on the scoping process.

Meeting Objectives

At the scoping meetings, Commission staff will: (1) initiate scoping of the issues; (2) review and discuss existing conditions; (3) review and discuss existing information and identify preliminary information and study needs; (4) review and discuss the process plan and schedule for pre-filing activity that incorporates the time frames provided for in Part 5 of the Commission's regulations and, to the extent possible, maximizes coordination of federal, state, and tribal permitting and certification processes; and (5) discuss the potential of any federal or state agency or Native American Tribe to act as a cooperating agency for development of an environmental document. Meeting participants should come prepared to discuss their issues and/or concerns. Please review the PAD in preparation for the scoping meetings. Directions on how to obtain a copy of the PAD and SD1 are included in item n of this document.

Meeting Procedures

The meetings will be recorded by a stenographer and become part of the Commission's formal record on the project.

Agencies, Native American Tribes, NGOS, and individuals are encouraged to attend the meetings and to assist the staff in defining and clarifying the issues to be addressed in the NEPA document.

Dated: July 8, 2024.
Debbie-Anne A. Reese,
Acting Secretary.

[FR Doc. 2024-15365 Filed 7-11-24; 8:45 am]

BILLING CODE 6717-01-P